DEPARTMENT OF THE INTERIOR

Fish and Wildlife Service

Aquatic Nuisance Species Task Force Risk Assessment and Management Committee Meeting

AGENCY: Fish and Wildlife Service, Interior.

ACTION: Notice of meeting.

SUMMARY: This notice announces a meeting of the Risk Assessment and Management Committee of the Aquatic Nuisance Species Task Force. The meeting topics are identified in the SUPPLEMENTARY INFORMATION.

DATES: The Committee will meet from 9 a.m. to 5 p.m., Tuesday, August 21, 2001 and will participate in a field trip from 7 a.m. to 2 p.m., Wednesday, August 22, 2001.

ADDRESSES: The meeting will be held at the NOAA National Ocean Service Cooperative Oxford Laboratory, 904 South Morris Street, Oxford, Maryland 21654. Phone (410) 226-5193.

FOR FURTHER INFORMATION CONTACT: Richard Orr, Chair, Risk Assessment and Management Committee, at (301) 734-8939 or by email at Richard.L.Orr@aphis.usda.gov or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force Risk Assessment and Management Committee. The Task Force was established by the Nonindigenous Aquatic Nuisance Prevention and Control Act of 1990 (16 U.S.C. 4701-4741). Topics to be addressed at this meeting include: a discussion on the document “Black Carp (Mylopharyngodon piceus): a Biological Synopsis and Updated Risk Assessment”; an update on the risk assessment for the Asian Swamp eel; a discussion on revision of the RAM screening paper; and a discussion of the policies surrounding screening processes with emphasis on precaution and uncertainty. Nutria and other invasive species observations will be the goal of the field trip.

Minutes of the meeting will be maintained by the Executive Secretary, Aquatic Nuisance Species Task Force, Suite 810, 4401 North Fairfax Drive, Arlington, Virginia 22203-1622, and the Chair of the Ballast Water and Shipping Committee at the Environmental Standards Division, Office of Operations and Environmental Standards, U.S. Coast Guard (G-MSO-4), 2100 Second Street, SW., room 1309, Washington, DC 20593-0001. Minutes for the meetings will be available at these locations for public inspection during regular business hours, Monday through Friday.

Dated: July 31, 2001.
Everett Wilson,
Acting Co-Chair, Aquatic Nuisance Species Task Force, Acting Assistant Director—Fisheries and Habitat Conservation.

[FR Doc. 01-20365 Filed 8-13-01; 8:45 am]

BILLING CODE 4310-55-M